DEPARTMENT OF ENERGY

Federal Energy Regulatory Commission

Notice Reminding Public Utilities Required by Federal Power Act Section 305(C) to File FERC-566 (Twenty Largest Purchasers) of Need To Make This Filing

June 7, 2006.

Take notice that public utilities required by Federal Power Act section 305(c), 16 U.S.C. 825(c) (2000), and by the Commission's regulations, 18 CFR 46.3 (2005), to file FERC-566, “A Public Utility's Twenty Largest Purchasers,” are reminded of the need to timely make such filings. Public utilities that are required to make such filings and that did not do so by January 31, 2006 should do so immediately.

The annual FERC-566, a listing by public utilities of the names and addresses of the utility's top twenty largest purchasers of electric energy, measured in kilowatt hours sold (for purposes other than resale) during any of the three preceding calendar years, was due on or before January 31, 2006 pursuant to 18 CFR 46.3 (2005). Public utilities that did not timely submit FERC-566 should submit FERC-566 immediately. More information on this filing can be found on the Commission's Web site: http://www.ferc.gov/docs-filing/hard-fil.asp#566.

If you require further information on the FERC-566, contact Pat Morris at (202) 502-8730.

Magalie R. Salas,
Secretary.

[FR Doc. E6-9292 Filed 6-13-06; 8:45 am]

BILLING CODE 6717-01-P